DEPARTMENT OF THE INTERIOR

Office of the Secretary

Regional Tribal Consultation on Implementation of Indian Land Consolidation Program Under Cobell Settlement

AGENCY: Office of the Secretary, Interior.

ACTION: Notice of Tribal Consultation Meeting and Extension of Comment Deadline.

SUMMARY: The Office of the Secretary is announcing that it will conduct an additional tribal consultation meeting with Indian tribes in Rapid City, South Dakota, to obtain oral and written comments concerning the implementation of the Indian Land Consolidation Program (ILCP) under the terms of the Cobell Settlement. Six consultation meetings in other regional locations were announced by a previous notice in the Federal Register. This notice also announces an extension of the comment deadline. See the SUPPLEMENTARY INFORMATION section of this notice for details.

DATES: The tribal consultation meeting will take place on October 26, 2011, in Rapid City, South Dakota. Comments for all aforementioned consultations must be received by November 1, 2011.

ADDRESSES: Michele F. Singer, Director, Office of Regulatory Affairs and Collaborative Action, Office of the Assistant Secretary —Indian Affairs, 1001 Indian School Road, NW., Suite 312, Albuquerque, NM 87104.

FOR FURTHER INFORMATION CONTACT: Michele F. Singer, telephone (505) 563-3805; fax (505) 563-3811 or access additional details for each consultation via the DOI Cobell Web site at http://www.doi.gov/cobell.

SUPPLEMENTARY INFORMATION:

I. Background

The Bureau of Indian Affairs' ILCP purchases fractionated interests of individually owned trust lands and transfers those consolidated interests into tribal ownership. The Indian Claims Resolution Act of 2010, Public Law 111-291, makes available $1.9 billion for the Secretary to operate the ILCP with the purpose of preventing further fractionation. The Act requires consultation with Indian tribes to identify fractional interests that should be prioritized for purchase through the ILCP.

Information and statistics regarding the issue of land fractionation will be distributed to the federally recognized Indian tribes prior to the consultations. The information will also be made available to attendees on the day of the consultation.

To date, the Office of the Secretary held five tribal consultation meetings: Friday, July 15, 2011, in Billings, Montana; Thursday, August 18, 2011, in Minneapolis, Minnesota; Friday, September 16, 2011, in Seattle, Washington; Tuesday, September 27, 2011, in Albuquerque, New Mexico; and Thursday, September 29, 2011, in Phoenix, Arizona. These meetings were announced in previous Federal Register notices. 76 FR 35009, 76 FR 41808.

II. Meeting Details

The Office of the Secretary will hold its last two tribal consultation meetings on the following schedule:

Date | Time | Location
Thursday, October 6, 2011 | 8 a.m.-4 p.m | Best Western Saddleback Inn and Conference Center, 4300 Southwest Third, Oklahoma City, OK 73108, (405) 947-7000. http://www.bestwestern.com/saddlebackinn
October 26, 2011 | 8 a.m.-4 p.m | Best Western Ramkota Hotel and Conference Center, Rushmore Room, 2111 N LaCrosse Street, Rapid City, SD 57701, (605) 343-8550. http://rapidcity.bwramkota.com/

Written comments will be accepted through November 1, 2011, and may be sent to the official listed in the ADDRESSES section above.

Dated: September 27, 2011.
David J. Hayes,
Deputy Secretary of the Interior.

[FR Doc. 2011-25291 Filed 9-29-11; 8:45 am]

BILLING CODE 4310-W7-P